DEPARTMENT OF COMMERCE

National Oceanic and Atmospheric Administration

50 CFR Part 679

[Docket No. 180713633-8633-01]

RIN 0648-XG356

Fisheries of the Exclusive Economic Zone Off Alaska; Bering Sea and Aleutian Islands; 2019 and 2020 Harvest Specifications for Groundfish

AGENCY: National Marine Fisheries Service (NMFS), National Oceanic and Atmospheric Administration (NOAA), Commerce.

ACTION: Proposed rule; request for comments.

SUMMARY: NMFS proposes 2019 and 2020 harvest specifications, apportionments, and prohibited species catch allowances for the groundfish fisheries of the Bering Sea and Aleutian Islands (BSAI) management area. This action is necessary to establish harvest limits for groundfish during the 2019 and 2020 fishing years, and to accomplish the goals and objectives of the Fishery Management Plan for Groundfish of the Bering Sea and Aleutian Islands Management Area. The intended effect of this action is to conserve and manage the groundfish resources in the BSAI in accordance with the Magnuson-Stevens Fishery Conservation and Management Act.

DATES: Comments must be received by January 7, 2019.

ADDRESSES: Submit your comments, identified by NOAA-NMFS-2018-0089, by either of the following methods:

• Federal e-Rulemaking Portal: Go to www.regulations.gov/#!docketDetail;D=NOAA-NMFS-2018-0089, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender is publicly accessible. NMFS will accept anonymous comments (enter “N/A” in the required fields if you wish to remain anonymous).

Electronic copies of the Alaska Groundfish Harvest Specifications Final Environmental Impact Statement (Final EIS), Record of Decision (ROD), the annual Supplementary Information Reports (SIRs) to the Final EIS, and the Initial Regulatory Flexibility Analysis (IRFA) prepared for this action may be obtained from https://www.regulations.gov or from the Alaska Region website at https://alaskafisheries.noaa.gov. An updated 2019 SIR for the final 2019 and 2020 harvest specifications will be available from the same sources. The final 2017 Stock Assessment and Fishery Evaluation (SAFE) report for the groundfish resources of the BSAI, dated November 2017, is available from the North Pacific Fishery Management Council (Council) at 605 West 4th Avenue, Suite 306, Anchorage, AK 99501-2252, phone 907-271-2809, or from the Council's website at https://www.npfmc.org/. The 2018 SAFE report for the BSAI is available from the same source.

FOR FURTHER INFORMATION CONTACT: Steve Whitney, 907-586-7228.

SUPPLEMENTARY INFORMATION: Federal regulations at 50 CFR part 679 implement the Fishery Management Plan for Groundfish of the Bering Sea and Aleutian Islands Management Area (FMP) and govern the groundfish fisheries in the BSAI. The Council prepared the FMP, and NMFS approved it, under the Magnuson-Stevens Fishery Conservation and Management Act (Magnuson-Stevens Act). General regulations governing U.S. fisheries also appear at 50 CFR part 600.

The FMP and its implementing regulations require NMFS, after consultation with the Council, to specify annually the total allowable catch (TAC) for each target species category. The sum of TACs for all groundfish species in the BSAI must be within the optimum yield (OY) range of 1.4 million to 2.0 million metric tons (mt) (see § 679.20(a)(1)(i)(A)). Section 679.20(c)(1) further requires NMFS to publish proposed harvest specifications in the Federal Register and solicit public comments on proposed annual TACs and apportionments thereof, prohibited species catch (PSC) allowances, prohibited species quota (PSQ) reserves established by § 679.21, seasonal allowances of pollock, Pacific cod, and Atka mackerel TAC, American Fisheries Act allocations, Amendment 80 allocations, Community Development Quota (CDQ) reserve amounts established by § 679.20(b)(1)(ii), and acceptable biological catch (ABC) surpluses and reserves for CDQ groups and Amendment 80 cooperatives for flathead sole, rock sole, and yellowfin sole. The proposed harvest specifications set forth in Tables 1 through 16 of this action satisfy these requirements.

Under § 679.20(c)(3), NMFS will publish the final harvest specifications for 2019 and 2020 after (1) considering comments received within the comment period (see DATES), (2) consulting with the Council at its December 2018 meeting, (3) considering information presented in the 2019 SIR to the EIS that assesses the need to prepare a Supplemental EIS (see ADDRESSES), and (4) considering information presented in the final 2018 SAFE reports prepared for the 2019 and 2020 groundfish fisheries.

Other Actions Affecting or Potentially Affecting the 2019 and 2020 Harvest Specifications

Amendment 117: Reclassify Squid as an Ecosystem Species

On July 6, 2018, NMFS published the final rule to implement Amendment 117 to the FMP (83 FR 31460). This rule reclassified squid in the FMP as an “Ecosystem Component” species, which is a category of non-target species that are not in need of conservation and management. Accordingly, NMFS will no longer set an Overfishing Level (OFL), ABC, and TAC for squid in the BSAI groundfish harvest specifications, beginning with the proposed 2019 and 2020 harvest specifications. Amendment 117 prohibits directed fishing for squid, while maintaining recordkeeping and reporting requirements for squid. Amendment 117 also establishes a squid maximum retainable amount when directed fishing for halibut and groundfish species at 20 percent to discourage targeting squid.

Rulemaking To Prohibit Directed Fishing for American Fisheries Act (AFA) Sideboard Limits

On August 16, 2018, NMFS published a proposed rule (83 FR 40733) that would modify regulations for the American Fisheries Act (AFA) Program participants subject to limits on the catch of specific species (sideboard limits) in the BSAI. Sideboard limits are intended to prevent AFA Program participants who benefit from receiving exclusive harvesting privileges in a particular fishery from shifting effort into other fisheries.

Specifically, the proposed rule would primarily establish regulations to prohibit directed fishing for sideboard limits for specific groundfish species or species groups, rather than prohibiting directed fishing for AFA sideboard limits through the BSAI annual harvest specifications. The proposed rule would streamline and simplify NMFS's management of applicable groundfish sideboard limits. Currently, NMFS calculates numerous AFA Program sideboard limits as part of the annual BSAI groundfish harvest specifications process and publishes these sideboard limits in the Federal Register. Concurrently, NMFS prohibits directed fishing for the majority of the groundfish sideboard limits because most limits are too small to support directed fishing. Rather than continue this annual process, this action proposes to revise regulations to prohibit directed fishing in regulation for most AFA Program groundfish sideboard limits. NMFS would no longer calculate and publish AFA Program sideboard limit amounts for most groundfish species in the annual BSAI harvest specifications. If the final rulemaking implementing these changes is effective prior to the publication of the final 2019 and 2020 harvest specifications, NMFS would no longer publish the majority of the sideboard limits contained in Tables 13 and 15 of this proposed action.

State of Alaska Guideline Harvest Levels

For 2019 and 2020, the Board of Fisheries (BOF) for the State of Alaska (State) established the guideline harvest level (GHL) for vessels using pot gear in State waters in the Bering Sea subarea (BS) equal to 8 percent of the Pacific cod ABC in the BS. Also, for 2019 and 2020, the BOF established an additional GHL for vessels using jig gear in State waters in the BS equal to 45 mt of Pacific cod. The Council and its BSAI Groundfish Plan Team (Plan Team), Scientific and Statistical Committee (SSC), and Advisory Panel (AP) recommended that the sum of all State and Federal water Pacific cod removals from the BS not exceed the proposed ABC recommendations of 170,000 mt. Accordingly, the Council recommended, and NMFS proposes, that the 2019 and 2020 Pacific cod TACs in the BS account for the State's GHLs for Pacific cod caught in State waters in the BS. Also, the BOF approved a one percent annual increase in the BS GHL, up to 15 percent of the Pacific cod ABC in the BS, if 90 percent of the GHL is harvested by November 15 of the preceding year. If 90 percent of the 2019 BS GHL is not harvested by November 15, 2019, the 2020 GHL will remain at 8 percent. If, however, 90 percent of the 2019 BS GHL is harvested by November 15, 2019, the 2020 GHL will increase by 1 percent to 9 percent of the 2020 Pacific cod ABC in the BS, and the 2020 BS TAC will decrease to account for the increased BS GHL.

For 2019 and 2020, the BOF established a GHL in State waters in the Aleutian Islands subarea (AI) equal to 31 percent of the Pacific cod ABC for the AI. The Council and its Plan Team, SSC, and AP recommended that the sum of all State and Federal water Pacific cod removals from the AI not exceed the proposed ABC recommendations of 21,500 mt. Accordingly, the Council recommended, and NMFS proposes, that the 2019 and 2020 Pacific cod TACs in the AI account for the State's GHL for Pacific cod caught in State waters in the AI.

Proposed ABC and TAC Harvest Specifications

At the October 2018 Council meeting, the SSC, AP, and Council reviewed the most recent biological and harvest information on the condition of the BSAI groundfish stocks. This information was compiled by the Plan Team and presented in the final 2017 SAFE report for the BSAI groundfish fisheries, dated November 2017 (see ADDRESSES). The final 2018 SAFE report will be available from the same source.

The only changes to the proposed 2019 and 2020 harvest specifications from the final 2019 harvest specifications published in February 2018 (83 FR 8365, February 27, 2018) are associated with squid OFL, ABC, and TAC; BS pollock TAC; and Pacific cod TACs. Consistent with the final approval of Amendment 117 and the reclassification of squid as an ecosystem component species (83 FR 31460), the 2019 harvest specifications include the removal of the squid OFL (6,912 mt), squid ABC (5,184 mt), and squid TAC (1,200 mt) in the BSAI. The Council recommended, and NMFS includes in these proposed specifications, a corresponding 1,200 mt increase in the BS pollock TAC. The net increase of the BS pollock TAC equals the decrease of the squid TAC. As discussed earlier in this preamble, the BS and AI Pacific cod TACs were reduced to account for the increases in the BS and AI Pacific cod GHLs. This reduced the 2019 and 2020 BS Pacific cod TAC from 159,120 mt to 156,355 mt, and the AI Pacific cod TAC from 15,695 mt to 14,835 mt. Therefore, the sum of the 2019 and 2020 proposed TACs decreased from 2.0 million mt to 1,996,375 mt.

The proposed 2019 and 2020 harvest specifications are based on the final 2019 harvest specifications published in February 2018, which were set after consideration of the most recent 2017 SAFE report, and are based on the initial survey data that were presented at the September 2018 Plan Team meeting. These proposed 2019 and 2020 harvest specifications are subject to change in the final harvest specifications to be published by NMFS following the Council's December 2018 meeting. In November 2018, the Plan Team will update the 2017 SAFE report to include new information collected during 2018, such as NMFS stock surveys, revised stock assessments, and catch data. The Plan Team will compile this information and present the draft 2018 SAFE report at the December 2018 Council meeting. At that meeting, the SSC and the Council will review the 2018 SAFE report, and the Council will approve the 2018 SAFE report. The Council will consider information contained in the 2018 SAFE report, recommendations from the November 2018 Plan Team meeting and December 2018 SSC and AP meetings, public testimony, and relevant written comments in making its recommendations for the final 2019 and 2020 harvest specifications.

In previous years, the most significant changes (relative to the amount of assessed tonnage of fish) to the OFLs and ABCs from the proposed to the final harvest specifications have been based on the most recent NMFS stock surveys. These surveys provide updated estimates of stock biomass and spatial distribution, and changes to the models or the models' results used for producing stock assessments. Any changes to models used in stock assessments will be recommended by the Plan Team in November 2018 and then included in the final 2018 SAFE report. Model changes can result in changes to final OFLs, ABCs, and TACs. The final 2018 SAFE report will include the most recent information, such as catch data.

The final harvest specification amounts for these stocks are not expected to vary greatly from the proposed harvest specification amounts published here. If the 2018 SAFE report indicates that the stock biomass trend is increasing for a species, then the final 2019 and 2020 harvest specifications may reflect an increase from the proposed harvest specifications. Conversely, if the 2018 SAFE report indicates that the stock biomass trend is decreasing for a species, then the final 2019 and 2020 harvest specifications may reflect a decrease from the proposed harvest specifications. In addition to changes driven by biomass trends, there may be changes in TACs due to the sum of ABCs exceeding 2 million mt. Since the regulations require TACs to be set to an OY between 1.4 and 2 million mt, the Council may be required to recommend TACs that are lower than the ABCs recommended by the Plan Team and the SSC, if setting TACs equal to ABCs would cause total TACs to exceed an OY of 2 million mt. Generally, total ABCs greatly exceed 2 million mt in years with a large pollock biomass. For both 2019 and 2020, NMFS anticipates that the sum of the ABCs will exceed 2 million mt. NMFS expects that the final total TAC for the BSAI for both 2019 and 2020 will equal 2 million mt each year.

The proposed OFLs, ABCs, and TACs are based on the best available biological and socioeconomic information, including projected biomass trends, information on assumed distribution of stock biomass, and revised technical methods used to calculate stock biomass. The FMP specifies a series of six tiers to define OFLs and ABCs based on the level of reliable information available to fishery scientists. Tier 1 represents the highest level of information quality available, while Tier 6 represents the lowest.

In October 2018, the SSC adopted the proposed 2019 and 2020 OFLs and ABCs recommended by the Plan Team for all groundfish species. The Council adopted the SSC's OFL and ABC recommendations. These amounts are unchanged from the final 2019 harvest specifications published in the Federal Register on February 27, 2018 (83 FR 8365), with the exception of the removal of the squid OFL and ABC. The Council adopted the AP's TAC recommendations, including the 1,200 mt increase in the BS pollock TAC because of the removal of the 2019 squid TAC of 1,200 mt. For 2019 and 2020, the Council recommended, and NMFS proposes, the OFLs, ABCs, and TACs listed in Table 1. The proposed ABCs reflect harvest amounts that are less than the specified OFLs. The sum of the proposed 2019 and 2020 ABCs for all assessed groundfish is 3,573,772 mt. The sum of the proposed TACs is 1,996,375 mt, which accounts for the increases in the BS and AI Pacific cod GHLs and subsequent reductions of the proposed BS and AI Pacific cod TACs. As discussed above, NMFS expects that the final total BSAI TAC for both 2019 and 2020 will equal 2 million mt each year.

Specification and Apportionment of TAC Amounts

The Council recommended proposed TACs for 2019 and 2020 Aleutian Islands sablefish, BS sablefish, BS and Eastern Aleutian Islands Atka mackerel, BS Pacific ocean perch, Central Aleutian Islands Pacific ocean perch, and Eastern Aleutian Islands Pacific ocean perch that are equal to the proposed ABCs. The Council recommended proposed TACs less than the respective proposed ABCs for all other species. Section 679.20(a)(5)(iii)(B)(1) requires the AI pollock TAC to be set at 19,000 mt when the AI pollock ABC equals or exceeds 19,000 mt. The Bogoslof pollock TAC is set to accommodate incidental catch amounts. TACs are set so that the sum of the overall TAC does not exceed the BSAI OY.

The proposed groundfish OFLs, ABCs, and TACs are subject to change pending the completion of the final 2018 SAFE report and the Council's recommendations for the final 2019 and 2020 harvest specifications during its December 2018 meeting. These proposed amounts are consistent with the biological condition of groundfish stocks as described in the 2018 SAFE report, and have been adjusted for other biological and socioeconomic considerations. Pursuant to Section 3.2.3.4.1 of the FMP, the Council could recommend adjusting the final TACs if “warranted on the basis of bycatch considerations, management uncertainty, or socioeconomic considerations; or if required in order to cause the sum of the TACs to fall within the OY range.” Table 1 lists the proposed 2019 and 2020 OFL, ABC, TAC, initial TAC (ITAC), and CDQ amounts for groundfish for the BSAI. The proposed apportionment of TAC amounts among fisheries and seasons is discussed below.

Table 1—Proposed 2019 and 2020 Overfishing Level (OFL), Acceptable Biological Catch (ABC), Total Allowable Catch (TAC), Initial TAC (ITAC), and CDQ Reserve Allocation of Groundfish in the BSAI ¹
[Amounts are in metric tons]
Species | Area | Proposed 2019 and 2020: OFL | Proposed 2019 and 2020: ABC | Proposed 2019 and 2020: TAC | Proposed 2019 and 2020: ITAC ² | Proposed 2019 and 2020: CDQ 3 4
Pollock ⁴ | BS | 4,592,000 | 2,467,000 | 1,384,200 | 1,245,780 | 138,420
| AI | 37,431 | 30,803 | 19,000 | 17,100 | 1,900
| Bogoslof | 130,428 | 60,800 | 500 | 500 |
Pacific cod ⁵ | BS | 201,000 | 170,000 | 156,355 | 139,625 | 16,730
| AI | 28,700 | 21,500 | 14,835 | 13,248 | 1,587
Sablefish | BS | 4,576 | 2,061 | 2,061 | 876 | 77
| AI | 6,209 | 2,798 | 2,798 | 595 | 52
Yellowfin sole | BSAI | 295,600 | 267,500 | 156,000 | 139,308 | 16,692
Greenland turbot | BSAI | 13,540 | 11,473 | 5,294 | 4,500 | n/a
| BS | n/a | 7,016 | 5,125 | 4,356 | 548
| AI | n/a | 1,457 | 169 | 144 |
Arrowtooth flounder | BSAI | 75,084 | 64,494 | 14,000 | 11,900 | 1,498
Kamchatka flounder | BSAI | 12,022 | 7,317 | 5,000 | 4,250 |
Rock sole ⁶ | BSAI | 136,000 | 132,000 | 49,100 | 43,846 | 5,254
Flathead sole ⁷ | BSAI | 78,036 | 65,227 | 16,500 | 14,735 | 1,766
Alaska plaice | BSAI | 38,800 | 32,700 | 16,252 | 13,814 |
Other flatfish ⁸ | BSAI | 17,591 | 13,193 | 4,000 | 3,400 |
Pacific Ocean perch | BSAI | 50,098 | 41,212 | 37,880 | 33,332 | n/a
| BS | n/a | 11,499 | 11,499 | 9,774 |
| EAI | n/a | 9,715 | 9,715 | 8,675 | 1,040
| CAI | n/a | 7,549 | 7,549 | 6,741 | 808
| WAI | n/a | 12,449 | 9,117 | 8,141 | 976
Northern rockfish | BSAI | 15,563 | 12,710 | 6,500 | 5,525 |
Blackspotted and Rougheye rockfish ⁹ | BSAI | 829 | 678 | 225 | 191 |
| EBS/EAI | n/a | 414 | 75 | 64 |
| CAI/WAI | n/a | 264 | 150 | 128 |
Shortraker rockfish | BSAI | 666 | 499 | 150 | 128 |
Other rockfish ¹⁰ | BSAI | 1,816 | 1,362 | 845 | 718 |
| BS | n/a | 791 | 275 | 234 |
| AI | n/a | 571 | 570 | 485 |
Atka mackerel | BSAI | 97,200 | 84,400 | 72,500 | 64,743 | 7,758
| EAI/BS | n/a | 33,780 | 33,780 | 30,166 | 3,614
| CAI | n/a | 29,350 | 24,895 | 22,231 | 2,664
| WAI | n/a | 21,270 | 13,825 | 12,346 | 1,479
Skates | BSAI | 44,202 | 36,957 | 27,000 | 22,950 |
Sculpins | BSAI | 53,201 | 39,995 | 5,000 | 4,250 |
Sharks | BSAI | 689 | 517 | 180 | 153 |
Octopuses | BSAI | 4,769 | 3,576 | 200 | 170 |
Total |  | 5,936,050 | 3,573,772 | 1,996,375 | 1,785,636 | 195,105
¹ These amounts apply to the entire BSAI management area unless otherwise specified. With the exception of pollock, and for the purpose of these harvest specifications, the BS includes the Bogoslof District.
² Except for pollock, the portion of the sablefish TAC allocated to hook-and-line and pot gear, and the Amendment 80 species (Atka mackerel, Aleutian Islands Pacific ocean perch, yellowfin sole, rock sole, flathead sole, and Pacific cod), 15 percent of each TAC is put into a non-specified reserve. The ITAC for these species is the remainder of the TAC after the subtraction of these reserves. For pollock and Amendment 80 species, ITAC is the non-CDQ allocation of TAC (see footnote 3 and 4).
³ For the Amendment 80 species (Atka mackerel, flathead sole, Pacific cod, rock sole, yellowfin sole, and Aleutian Islands Pacific ocean perch), 10.7 percent of the TAC is reserved for use by CDQ participants (see §§ 679.20(b)(1)(ii)(C) and 679.31). Twenty percent of the sablefish TAC is allocated to hook-and-line gear or pot gear, 7.5 percent of the sablefish TAC is allocated to trawl gear, and 10.7 percent of the TACs for Bering Sea Greenland turbot and BSAI arrowtooth flounder are reserved for use by CDQ participants (see § 679.20(b)(1)(ii)(B) and (D)). The 2019 hook-and-line or pot gear portion of the sablefish ITAC and CDQ reserve will not be specified until the final 2019 and 2020 harvest specifications. Aleutian Islands Greenland turbot, “other flatfish,” Alaska plaice, Bering Sea Pacific ocean perch, Kamchatka flounder, northern rockfish, shortraker rockfish, blackspotted and rougheye rockfish, “other rockfish,” octopuses, skates, sculpins, and sharks are not allocated to the CDQ Program.
⁴ Under § 679.20(a)(5)(i)(A), the annual BS pollock TAC, after subtracting first for the CDQ directed fishing allowance (10 percent) and second for the incidental catch allowance (3.9 percent), is further allocated by sector for a pollock directed fishery as follows: Inshore—50 percent; catcher/processor—40 percent; and motherships—10 percent. Under § 679.20(a)(5)(iii)(B)(2), the annual AI subarea pollock TAC, after subtracting first for the CDQ directed fishing allowance (10 percent) and second for the incidental catch allowance (2,400 mt), is allocated to the Aleut Corporation for a directed pollock fishery.
⁵ The BS Pacific cod TAC is set to account for the 8 percent of the BS ABC for the State of Alaska's (State) guideline harvest level in State waters of the BS. The AI Pacific cod TAC is set to account for 31 percent of the AI ABC for the State guideline harvest level in State waters of the AI.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), flathead sole, Greenland turbot, rock sole, yellowfin sole, arrowtooth flounder, Kamchatka flounder, and Alaska plaice.
⁹ “Blackspotted and Rougheye rockfish” includes Sebastes melanostictus (blackspotted) and Sebastes aleutianus (rougheye).
¹⁰ “Other rockfish” includes all Sebastes and Sebastolobus species except for Pacific ocean perch, northern, shortraker, and rougheye rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district).

Groundfish Reserves and the Incidental Catch Allowance (ICA) for Pollock, Atka Mackerel, Flathead Sole, Rock Sole, Yellowfin Sole, and AI Pacific Ocean Perch

Section 679.20(b)(1)(i) requires NMFS to reserve 15 percent of the TAC for each target species category, except for pollock, hook-and-line and pot gear allocation of sablefish, and Amendment 80 species, in a non-specified reserve. Section 679.20(b)(1)(ii)(B) requires NMFS to allocate 20 percent of the hook-and-line or pot gear allocation of sablefish to the fixed gear sablefish CDQ reserve. Section 679.20(b)(1)(ii)(D) requires NMFS to allocate 7.5 percent of the trawl gear allocation of sablefish and 10.7 percent of BS Greenland turbot and arrowtooth flounder TACs to the respective CDQ reserves. Section 679.20(b)(1)(ii)(C) requires NMFS to allocate 10.7 percent of the TACs for Atka mackerel, AI Pacific ocean perch, yellowfin sole, rock sole, flathead sole, and Pacific cod to the respective CDQ reserves. Sections 679.20(a)(5)(i)(A) and 679.31(a) require allocation of 10 percent of the BS pollock TAC to the pollock CDQ directed fishing allowance (DFA). Sections 679.20(a)(5)(iii)(B)(2)(i) and 679.31(a) require 10 percent of the Aleutian Islands pollock TAC be allocated to the pollock CDQ DFA. The entire Bogoslof District pollock TAC is allocated as an ICA pursuant to § 679.20(a)(5)(ii) because the Bogoslof Area is closed to directed fishing for pollock by regulation (§ 679.22(a)(7)(i)(B)). With the exception of the hook-and-line or pot gear sablefish CDQ reserve, the regulations do not further apportion the CDQ reserves by gear.

Pursuant to § 679.20(a)(5)(i)(A)(1), NMFS proposes a pollock ICA of 3.9 percent or 48,585 mt of the BS pollock TAC after subtracting the 10 percent CDQ reserve. This allowance is based on NMFS' examination of the pollock incidentally retained and discarded catch, including the incidental catch by CDQ vessels, in target fisheries other than pollock from 2000 through 2018. During this 19-year period, the pollock incidental catch ranged from a low of 2.2 percent in 2006 to a high of 4.6 percent in 2014, with a 19-year average of 3 percent. Pursuant to §§ 679.20(a)(5)(iii)(B)(2)(i) and (ii), NMFS proposes a pollock ICA of 14 percent or 2,400 mt of the AI pollock TAC after subtracting the 10-percent CDQ reserve. This allowance is based on NMFS' examination of the pollock incidental catch, including the incidental catch by CDQ vessels, in target fisheries other than pollock from 2003 through 2018. During this 16-year period, the incidental catch of pollock ranged from a low of 5 percent in 2006 to a high of 17 percent in 2014, with a 16-year average of 8 percent.

Pursuant to §§ 679.20(a)(8) and (10), NMFS proposes ICAs of 4,000 mt of flathead sole, 6,000 mt of rock sole, 4,000 mt of yellowfin sole, 10 mt of Western Aleutian District Pacific ocean perch, 60 mt of Central Aleutian District Pacific ocean perch, 100 mt of Eastern Aleutian District Pacific ocean perch, 20 mt of Western Aleutian District Atka mackerel, 75 mt of Central Aleutian District Atka mackerel, and 800 mt of Eastern Aleutian District and BS Atka mackerel after subtracting the 10.7 percent CDQ reserve. These ICAs are based on NMFS' examination of the average incidental retained and discarded catch in other target fisheries from 2003 through 2018.

The regulations do not designate the remainder of the non-specified reserve by species or species group. Any amount of the reserve may be apportioned to a target species that contributed to the non-specified reserve during the year, provided that such apportionments are consistent with § 679.20(a)(3) and do not result in overfishing (see § 679.20(b)(1)(i)).

Allocations of Pollock TAC Under the American Fisheries Act (AFA)

Section 679.20(a)(5)(i)(A) requires that BS pollock TAC be apportioned as a DFA, after subtracting 10 percent for the CDQ Program and 3.9 percent for the ICA, as follows: 50 percent to the inshore sector, 40 percent to the catcher/processor sector, and 10 percent to the mothership sector. In the BS, 45 percent of the DFA is allocated to the A season (January 20 to June 10), and 55 percent of the DFA is allocated to the B season (June 10 to November 1) (§§ 679.20(a)(5)(i)(B)(1) and 679.23(e)(2)). The AI directed pollock fishery allocation to the Aleut Corporation is the amount of pollock TAC remaining in the AI after subtracting 1,900 mt for the CDQ DFA (10 percent), and 2,400 mt for the ICA (§ 679.20(a)(5)(iii)(B)(2)). In the AI, the total A season apportionment of the pollock TAC (including the AI directed fishery allocation, the CDQ allowance, and the ICA) may equal up to 40 percent of the ABC for AI pollock, and the remainder of the pollock TAC is allocated to the B season (§ 679.20(a)(5)(iii)(B)(3)). Table 2 lists these proposed 2019 and 2020 amounts.

Section 679.20(a)(5)(iii)(B)(6) sets harvest limits for pollock in the A season (January 20 to June 10) in Areas 543, 542, and 541. In Area 543, the A season pollock harvest limit is no more than 5 percent of the Aleutian Islands pollock ABC. In Area 542, the A season pollock harvest limit is no more than 15 percent of the Aleutian Islands pollock ABC. In Area 541, the A season pollock harvest limit is no more than 30 percent of the Aleutian Islands pollock ABC.

Section 679.20(a)(5)(i)(A)(4) includes several specific requirements regarding BS pollock allocations. First, it requires that 8.5 percent of the pollock allocated to the catcher/processor sector be available for harvest by AFA catcher vessels with catcher/processor sector endorsements, unless the Regional Administrator receives a cooperative contract that allows the distribution of harvest among AFA catcher/processors and AFA catcher vessels in a manner agreed to by all members. Second, AFA catcher/processors not listed in the AFA are limited to harvesting not more than 0.5 percent of the pollock allocated to the catcher/processor sector. Table 2 lists the proposed 2019 and 2020 allocations of pollock TAC. Tables 13 through 16 list the AFA catcher/processor and catcher vessel harvesting sideboard limits. The BS inshore pollock cooperative and open access sector allocations are based on the submission of AFA inshore cooperative applications due to NMFS on December 1 of each calendar year. Because AFA inshore cooperative applications for 2019 have not been submitted to NMFS, and NMFS therefore cannot calculate 2019 allocations, NMFS has not included inshore cooperative tables in these proposed harvest specifications. NMFS will post 2019 AFA inshore pollock cooperative and open access sector allocations on the Alaska Region website at https://alaskafisheries.noaa.gov prior to the start of the fishing year on January 1, 2019, based on the harvest specifications effective on that date.

Table 2 also lists proposed seasonal apportionments of pollock and harvest limits within the Steller Sea Lion Conservation Area (SCA). The harvest of pollock within the SCA, as defined at § 679.22(a)(7)(vii), is limited to no more than 28 percent of the DFA before 12:00 noon, April 1, as provided in § 679.20(a)(5)(i)(C). The A season pollock SCA harvest limit will be apportioned to each sector in proportion to each sector's allocated percentage of the DFA. Table 2 lists these proposed 2019 and 2020 amounts by sector.

Table 2—Proposed 2019 and 2020 Allocations of Pollock TACS to the Directed Pollock Fisheries and to the CDQ Directed Fishing Allowances (DFA) ¹
[Amounts are in metric tons]
Area and sector | 2019 and 2020 allocations | A season¹: A season DFA | A season¹: SCA harvest limit ² | B season ¹: B season DFA
Bering Sea subarea TAC | 1,384,200 | n/a | n/a | n/a
CDQ DFA | 138,420 | 62,289 | 38,758 | 76,131
ICA ¹ | 48,585 | n/a | n/a | n/a
AFA Inshore | 598,597 | 269,369 | 167,607 | 329,229
AFA Catcher/Processors ³ | 478,878 | 215,495 | 134,086 | 263,383
Catch by C/Ps | 438,173 | 197,178 | n/a | 240,995
Catch by C/Vs ³ | 40,705 | 18,317 | n/a | 22,388
Unlisted C/P Limit ⁴ | 2,394 | 1,077 | n/a | 1,317
AFA Motherships | 119,719 | 53,874 | 33,521 | 65,846
Excessive Harvesting Limit ⁵ | 209,509 | n/a | n/a | n/a
Excessive Processing Limit ⁶ | 359,158 | n/a | n/a | n/a
Total Bering Sea DFA (non-CDQ) | 1,197,195 | 538,738 | 335,214 | 658,457
Aleutian Islands subarea ABC | 30,803 | n/a | n/a | n/a
Aleutian Islands subarea TAC | 19,000 | n/a | n/a | n/a
CDQ DFA | 1,900 | 760 | n/a | 1,140
ICA | 2,400 | 1,200 | n/a | 1,200
Aleut Corporation | 14,700 | 7,361 | n/a | 4,339
Area harvest limit ⁷ | n/a | n/a | n/a | n/a
Area 541 harvest limit ⁷ | 9,241 | n/a | n/a | n/a
Area 542 harvest limit ⁷ | 4,620 | n/a | n/a | n/a
Area 543 harvest limit ⁷ | 1,540 | n/a | n/a | n/a
Bogoslof District ICA ⁸ | 500 | n/a | n/a | n/a
¹ Pursuant to § 679.20(a)(5)(i)(A), the annual Bering Sea subarea pollock TAC, after subtracting the CDQ DFA (10 percent) and the ICA (3.9 percent), is allocated as a DFA as follows: Inshore sector—50 percent, catcher/processor sector (C/Ps)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the annual AI pollock TAC, after subtracting first for the CDQ DFA (10 percent) and second for the ICA (2,400 mt), is allocated to the Aleut Corporation for a directed pollock fishery. In the AI subarea, the A season is allocated up to 40 percent of the ABC, and the B season is allocated the remainder of the directed pollock fishery.
² In the Bering Sea subarea, pursuant to § 679.20(a)(5)(i)(c), no more than 28 percent of each sector's annual DFA may be taken from the SCA before noon, April 1.
³ Pursuant to § 679.20(a)(5)(i)(A)(4), 8.5 percent of the DFA allocated to listed C/Ps shall be available for harvest only by AFA catcher vessels (CVs) with CP endorsements delivering to listed CPs, unless there is a C/P sector cooperative for the year.
⁴ Pursuant to § 679.20(a)(5)(i)(A)(4)(iii), the AFA unlisted C/Ps are limited to harvesting not more than 0.5 percent of the C/Ps sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ Pursuant to § 679.22(a)(7)(i)(B), the Bogoslof District is closed to directed fishing for pollock. The amounts specified are for incidental catch only and are not apportioned by season or sector.

Allocation of the Atka Mackerel TACs

Section 679.20(a)(8) allocates the Atka mackerel TACs to the Amendment 80 and BSAI trawl limited access sectors, after subtracting the CDQ reserves, ICAs for the BSAI trawl limited access sector and non-trawl gear sectors, and the jig gear allocation (Table 3). The percentage of the ITAC for Atka mackerel allocated to the Amendment 80 and BSAI trawl limited access sectors is listed in Table 33 to 50 CFR part 679 and in § 679.91. Pursuant to § 679.20(a)(8)(i), up to 2 percent of the Eastern Aleutian District and Bering Sea subarea Atka mackerel TAC may be allocated to vessels using jig gear. The percent of this allocation is recommended annually by the Council based on several criteria, including the anticipated harvest capacity of the jig gear fleet. The Council recommended, and NMFS proposes, a 0.5 percent allocation of the Atka mackerel TAC in the Eastern Aleutian District and Bering Sea subarea to jig gear in 2019 and 2020. This percentage is applied to the TAC after subtracting the CDQ reserve.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to trawl CDQ Atka mackerel fishing. The ICA and jig gear allocations are not apportioned by season.

Section 679.20(a)(8)(ii)(C)(1)(i) and (ii) limits Atka mackerel catch within waters 0 nm to 20 nm of Steller sea lion sites listed in Table 6 to 50 CFR part 679 and located west of 178° W longitude to no more than 60 percent of the annual TACs in Areas 542 and 543, and equally divides the annual TAC between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to 50 CFR part 679 and located in Areas 541, 542, and 543.

Table 3 lists the proposed 2019 and 2020 Atka mackerel season allowances, area allowances, and the sector allocations. One Amendment 80 cooperative has formed for the 2019 fishing year. Because all Amendment 80 vessels are part of the cooperative, no allocation to the Amendment 80 limited access sector is required. The 2020 allocations for Atka mackerel between Amendment 80 cooperatives and the Amendment 80 limited access sector will not be known until eligible participants apply for participation in the program by November 1, 2019. NMFS will post 2020 Amendment 80 cooperatives and Amendment 80 limited access sector allocations on the Alaska Region website at https://alaskafisheries.noaa.gov prior to the start of the fishing year on January 1, 2020, based on the harvest specifications effective on that date.

Table 3—Proposed 2019 and 2020 Seasonal and Spatial Allowances, Gear Shares, CDQ Reserve, Incidental Catch Allowance, and Amendment 80 Allocations of the BSAI Atka Mackerel TAC
[Amounts are in metric tons]
Sector ¹ | Season ² ³ ⁴ | 2019 and 2020 allocation by area: Eastern Aleutian District/Bering Sea | 2019 and 2020 allocation by area: Central Aleutian District ⁵ | 2019 and 2020 allocation by area: Western Aleutian District ⁵
TAC | n/a | 33,780 | 24,895 | 13,825
CDQ reserve | Total | 3,614 | 2,664 | 1,479
| A | 1,807 | 1,332 | 740
| Critical habitat ⁵ | n/a | 799 | 444
| B | 1,807 | 1,332 | 740
| Critical habitat ⁵ | n/a | 799 | 444
non-CDQ TAC | n/a | 30,166 | 22,231 | 12,346
Jig ⁶ | Total | 151 |  |
ICA | Total | 800 | 75 | 20
BSAI trawl limited access | Total | 2,921 | 2,216 |
| A | 1,461 | 1,108 |
| Critical habitat ⁵ | n/a | 665 |
| B | 1,461 | 1,108 |
| Critical habitat ⁵ | n/a | 665 |
Amendment 80 | Total | 26,293 | 19,941 | 12,326
| A | 13,147 | 9,970 | 6,163
| Critical habitat ⁵ | n/a | 5,982 | 3,698
| B | 13,147 | 9,970 | 6,163
| Critical habitat ⁵ | n/a | 5,982 | 3,698
¹ Section 679.20(a)(8)(ii) allocates the Atka mackerel TACs, after subtracting the CDQ reserves, ICAs, and the jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 7, and the B season from June 10 to December 31.
⁵ Section 679.20(a)(8)(ii)(C)(1)(i) limits no more than 60 percent of the annual TACs in Areas 542 and 543 to be caught inside of Steller sea lion critical habitat; § 679.20(a)(8)(ii)(C)(1)(ii) equally divides the annual TACs between the A and B seasons as defined at § 679.23(e)(3); and § 679.20(a)(8)(ii)(C)(2) requires the TAC in Area 543 shall be no more than 65 percent of ABC in Area 543.
⁶ Section 679.20(a)(8)(i) requires that up to 2 percent of the Eastern Aleutian District and Bering Sea subarea TAC be allocated to jig gear after subtraction of the CDQ reserve. The amount of this allocation for 2019 and 2020 is proposed at 0.5 percent. The jig gear allocation is not apportioned by season.

Allocation of the Pacific Cod TAC

The Council separated Bering Sea and Aleutian Islands subarea OFLs, ABCs, and TACs for Pacific cod in 2014 (79 FR 12108, March 4, 2014). Section 679.20(b)(1)(ii)(C) allocates 10.7 percent of the BS TAC and the AI TAC to the CDQ Program. After CDQ allocations have been deducted from the respective BS and AI Pacific cod TACs, the remaining BS and AI Pacific cod TACs are combined for calculating further BSAI Pacific cod sector allocations. If the non-CDQ Pacific cod TAC is or will be reached in either the BS or the AI subareas, NMFS will prohibit non-CDQ directed fishing for Pacific cod in that subarea, as provided in § 679.20(d)(1)(iii).

Section 679.20(a)(7)(i) and (ii) allocates to the non-CDQ sectors the combined BSAI Pacific cod TAC, after subtracting 10.7 percent for the CDQ Program, as follows: 1.4 percent to vessels using jig gear, 2.0 percent to hook-and-line or pot catcher vessels less than 60 ft (18.3 m) length overall (LOA), 0.2 percent to hook-and-line catcher vessels greater than or equal to 60 ft (18.3 m) LOA, 48.7 percent to hook-and-line catcher/processors, 8.4 percent to pot catcher vessels greater than or equal to 60 ft (18.3 m) LOA, 1.5 percent to pot catcher/processors, 2.3 percent to AFA trawl catcher/processors, 13.4 percent to the Amendment 80 sector, and 22.1 percent to trawl catcher vessels. The BSAI ICA for the hook-and-line and pot sectors will be deducted from the aggregate portion of BSAI Pacific cod TAC allocated to the hook-and-line and pot sectors. For 2019 and 2020, the Regional Administrator proposes a BSAI ICA of 400 mt, based on anticipated incidental catch by these sectors in other fisheries.

The BSAI ITAC allocation of Pacific cod to the Amendment 80 sector is established in Table 33 to 50 CFR part 679 and § 679.91. One Amendment 80 cooperative has formed for the 2019 fishing year. Because all Amendment 80 vessels are part of the cooperative, no allocation to the Amendment 80 limited access sector is required.

The 2020 allocations for Amendment 80 species between Amendment 80 cooperatives and the Amendment 80 limited access sector will not be known until eligible participants apply for participation in the program by November 1, 2019. NMFS will post 2020 Amendment 80 cooperatives and Amendment 80 limited access allocations on the Alaska Region website at https://alaskafisheries.noaa.gov prior to the start of the fishing year on January 1, 2020, based on the harvest specifications effective on that date.

The Pacific cod TAC is apportioned into seasonal allowances to disperse the Pacific cod fisheries over the fishing year (see §§ 679.20(a)(7)(i)(B), 679.20 (a)(7)(iv)(A), and 679.23(e)(5)). In accordance with §§ 679.20(a)(7)(iv)(B) and (C), any unused portion of a seasonal Pacific cod allowance for any sector, except the jig sector, will become available at the beginning of that sector's next seasonal allowance.

Section 679.20(a)(7)(vii) requires the Regional Administrator to establish an Area 543 Pacific cod harvest limit based on Pacific cod abundance in Area 543. Based on the 2017 stock assessment, the Regional Administrator determined the Area 543 Pacific cod harvest limit to be 25.6 percent of the AI Pacific cod TAC for 2019 and 2020. NMFS will first subtract the State GHL Pacific cod amount from the AI Pacific cod ABC. Then NMFS will determine the harvest limit in Area 543 by multiplying the percentage of Pacific cod estimated in Area 543 by the remaining ABC for AI Pacific cod. Based on these calculations, the proposed Area 543 harvest limit is 3,798 mt.

Section 679.20(a)(7)(viii) requires specification of the 2019 and 2020 Pacific cod allocations for the Aleutian Islands non-CDQ ICA, non-CDQ DFA, CV Harvest Set-Aside, and Unrestricted Fishery, as well as the Bering Sea Trawl CV A-Season Sector Limitation. The CV Harvest Set-Aside is a portion of the AI Pacific cod TAC that is available for harvest by catcher vessels directed fishing for AI Pacific cod and delivering their catch for processing to an AI shoreplant. If NMFS receives notification of intent to process AI Pacific cod from either the City of Adak or the City of Atka by October 31 of the previous year, the harvest limits in Table 4a will be in effect in the following year.

Prior to October 31, 2018, NMFS received timely notice from the City of Adak indicating an intent to process AI Pacific cod in 2019. Accordingly, the harvest limits in Table 4a will be in effect in 2019, subject to the requirements outlined in § 679.20(a)(7)(viii)(E). If less than 1,000 mt of the Aleutian Islands CV Harvest Set-Aside is delivered to Aleutian Islands shoreplants by February 28 of that year, then the Aleutian Islands CV Harvest Set-Aside is lifted and the Bering Sea Trawl CV A-Season Sector Limitation is suspended. If the entire Aleutian Islands CV Harvest Set-Aside is fully harvested and delivered to Aleutian Islands shoreplants before March 15 of that year, then the Bering Sea Trawl CV A-Season Sector Limitation is suspended for the remainder of the fishing year.

The CDQ and non-CDQ seasonal allowances by gear based on the proposed 2019 and 2020 Pacific cod TACs are listed in Table 4 based on the sector allocation percentages of Pacific cod set forth at §§ 679.20(a)(7)(i)(B) and (a)(7)(iv)(A); and the seasons set forth at § 679.23(e)(5).

Table 4—Proposed 2019 and 2020 Gear Shares and Seasonal Allowances of the BSAI ¹ Pacific Cod TAC
[Amounts are in metric tons]
Sector | Percent | 2019 and 2020 share of gear sector total | 2019 and 2020 share of sector total | 2019 and 2020 seasonal apportionment: Season | 2019 and 2020 seasonal apportionment: Amount
Total Bering Sea TAC | n/a | 156,355 | n/a | n/a | n/a
Bering Sea CDQ | n/a | 16,730 | n/a | See § 679.20(a)(7)(i)(B) | n/a
Bering Sea non-CDQ TAC | n/a | 139,625 | n/a | n/a | n/a
Total Aleutian Islands TAC | n/a | 14,835 | n/a | n/a | n/a
Aleutian Islands CDQ | n/a | 1,587 | n/a | See § 679.20(a)(7)(i)(B) | n/a
Aleutian Islands non-CDQ TAC | n/a | 13,248 | n/a | n/a | n/a
Western Aleutians Islands Limit | n/a | 3,798 | n/a | n/a | n/a
Total BSAI non-CDQ TAC ¹ | 100 | 152,873 | n/a | n/a | n/a
Total hook-and-line/pot gear | 61 | 92,947 | n/a | n/a | n/a
Hook-and-line/pot ICA ² | n/a | n/a | 400 | n/a | n/a
Hook-and-line/pot sub-total | n/a | 92,547 | n/a | n/a | n/a
Hook-and-line catcher/processors | 49 | n/a | 74,129 | Jan-1-Jun 10 Jun 10-Dec 31 | 37,806 36,323
Hook-and-line catcher vessels ≥60 ft LOA | 0 | n/a | 304 | Jan 1-Jun 10 Jun 10-Dec 31 | 155 149
Pot catcher/processors | 2 | n/a | 2,283 | Jan 1-Jun 10 Sept 1-Dec 31 | 1,164 1,119
Pot catcher vessels ≥60 ft LOA | 8 | n/a | 12,786 | Jan 1-Jun 10 Sept-1-Dec 31 | 6,521 6,265
Catcher vessels <60 ft LOA using hook-and-line or pot gear | 2 | n/a | 3,044 | n/a | n/a
Trawl catcher vessels | 22 | 33,785 | n/a | Jan 20-Apr 1 Apr 1-Jun 10 Jun 10-Nov 1 | 25,001 3,716 5,068
AFA trawl catcher/processors | 2 | 3,516 | n/a | Jan 20-Apr 1 Apr 1-Jun 10 Jun 10-Nov 1 | 2,637 879
Amendment 80 | 13 | 20,485 | n/a | Jan 20-Apr 1 Apr 1-Jun 10 Jun 10-Nov 1 | 15,364 5,121
Jig | 1 | 2,140 | n/a | Jan 1-Apr 30 Apr 30-Aug 31 Aug 31-Dec 31 | 1,284 428 428
¹ The gear shares and seasonal allowances for BSAI Pacific cod TAC are based on the sum of the BS and AI Pacific cod TACs, after subtraction of CDQ. If the TAC for Pacific cod in either the AI or BS is reached, then directed fishing for Pacific cod in that subarea will be prohibited, even if a BSAI allowance remains.
² The ICA for the hook-and-line and pot sectors will be deducted from the aggregate portion of Pacific cod TAC allocated to the hook-and-line and pot sectors. The Regional Administrator proposes an ICA of 400 mt for 2019 and 2020 based on anticipated incidental catch in these fisheries.

Table 4a—Proposed 2019 and 2020 BSAI A-Season Pacific Cod Allocations and Limits if Requirements in § 679.20(a)(7)(viii) are Met ¹
2019 and 2020 allocations under Aleutian Islands CV Harvest Set-Aside | Amount (mt)
AI non-CDQ TAC | 13,248
AI ICA | 2,500
AI DFA | 7,748
AI CV Harvest Set-Aside ² | 5,000
AI Unrestricted Fishery ³ | 5,748
BSAI Trawl CV A-Season Allocation | 25,001
BSAI Trawl CV A-Season Allocation minus Sector Limitation ⁴ | 20,001
BS Trawl CV A-Season Sector Limitation | 5,000
¹ These allocations will apply in 2019, and will apply in 2020 only if NMFS receives notice of intent to process AI Pacific cod by October 31, 2019, pursuant to § 679.20(a)(7)(viii)(D). In addition, the allocations apply in 2019 and 2020 if the requirements set forth in § 679.20(a)(7)(viii)(E) are likewise met during the fishing year. Prior to October 31, 2018, NMFS received timely notice from the City of Adak indicating an intent to process AI Pacific cod for the 2019 season. Accordingly, the harvest limits in Table 4a will be in effect in 2019, subject to the requirements outlined in § 679.20(a)(7)(viii)(E).
² Prior to March 15, 2019, only catcher vessels that deliver their catch of AI Pacific cod to AI shoreplants for processing may directed fish for that portion of the AI Pacific cod non-CDQ DFA that is specified as the AI CV Harvest Set-Aside, unless lifted because the requirements pursuant to § 679.20(a)(7)(viii)(E) were not met.
³ Prior to March 15, 2019, vessels otherwise authorized to directed fish for Pacific cod in the AI may directed fish for that portion of the AI Pacific cod non-CDQ DFA that is specified as the AI Unrestricted Fishery.
⁴ This is the amount of the BSAI trawl CV A season allocation that may be harvested in the Bering Sea prior to March 21, 2019, unless modified because the requirements in § 679.20(a)(7)(viii)(E) were not met.

Sablefish Gear Allocation

Section 679.20(a)(4)(iii) and (iv) require allocation of sablefish TAC for the BS and AI between trawl gear and hook-and-line or pot gear. Gear allocations of the TAC for the BS are 50 percent for trawl gear and 50 percent for hook-and-line or pot gear. Gear allocations for the TAC for the AI are 25 percent for trawl gear and 75 percent for hook-and-line or pot gear. Section 679.20(b)(1)(ii)(B) requires NMFS to apportion 20 percent of the hook-and-line or pot gear allocation of sablefish to the CDQ reserve for each subarea. Also, § 679.20(b)(1)(ii)(D)(1) requires that 7.5 percent of the trawl gear allocation of sablefish from the non-specified reserves, established under § 679.20(b)(1)(i), be apportioned to the CDQ reserve. The Council recommended that only trawl sablefish TAC be established biennially. The harvest specifications for the hook-and-line or pot gear sablefish Individual Fishing Quota (IFQ) fisheries are limited to the 2019 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 5 lists the proposed 2019 and 2020 gear allocations of the sablefish TAC and CDQ reserve amounts.

Table 5—Proposed 2019 and 2020 Gear Shares and CDQ Reserve of BSAI Sablefish TACs
[Amounts are in metric tons]
Subarea and gear | Percent of TAC | 2019 Share of TAC | 2019 ITAC ¹ | 2019 CDQ reserve | 2020 Share of TAC | 2020 ITAC | 2020 CDQ reserve
Bering Sea
Trawl | 50 | 1,031 | 876 | 77 | 1,031 | 876 | 77
Hook-and-line gear/pot ² | 50 | 1,031 | n/a | 206 | n/a | n/a | n/a
Total | 100 | 2,061 | 876 | 283 | 1,031 | 876 | 77
Aleutian Islands
Trawl | 25 | 700 | 595 | 52 | 700 | 595 | 52
Hook-and-line gear/pot ² | 75 | 2,099 | n/a | 420 | n/a | n/a | n/a
Total | 100 | 2,798 | 595 | 472 | 700 | 595 | 52
¹ Except for the sablefish hook-and-line and pot gear allocation, 15 percent of TAC is apportioned to the non-specified reserve (§ 679.20(b)(1)(i)). The ITAC is the remainder of the TAC after the subtraction of these reserves.
² For the portion of the sablefish TAC allocated to vessels using hook-and-line or pot gear, 20 percent of the allocated TAC is reserved for use by CDQ participants (§ 679.20(b)(1)). The Council recommended that specifications for the hook-and-line or pot gear sablefish IFQ fisheries be limited to one year.
Note: Seasonal or sector apportionments may not total precisely due to rounding.

Allocation of the Aleutian Islands Pacific Ocean Perch, and BSAI Flathead Sole, Rock Sole, and Yellowfin Sole TACs

Section 679.20(a)(10)(i) and (ii) requires that NMFS allocate AI Pacific ocean perch, and BSAI flathead sole, rock sole, and yellowfin sole TACs between the Amendment 80 sector and the BSAI trawl limited access sector, after subtracting 10.7 percent for the CDQ reserve and an ICA for the BSAI trawl limited access sector and vessels using non-trawl gear. The allocation of the ITAC for AI Pacific ocean perch, and BSAI flathead sole, rock sole, and yellowfin sole to the Amendment 80 sector is established in Tables 33 and 34 to 50 CFR part 679 and in § 679.91.

One Amendment 80 cooperative has formed for the 2019 fishing year. Because all Amendment 80 vessels are part of the cooperative, no allocation to the Amendment 80 limited access sector is required.

The 2020 allocations for Amendment 80 species between Amendment 80 cooperatives and the Amendment 80 limited access sector will not be known until eligible participants apply for participation in the program by November 1, 2019. NMFS will post 2020 Amendment 80 cooperatives and Amendment 80 limited access allocations on the Alaska Region website at https://alaskafisheries.noaa.gov prior to the start of the fishing year on January 1, 2020, based on the harvest specifications effective on that date.

Table 6 lists the proposed 2019 and 2020 allocations of the AI Pacific ocean perch, and BSAI flathead sole, rock sole, and yellowfin sole TACs.

Table 6—Proposed 2019 and 2020 Community Development Quota (CDQ) Reserves, Incidental Catch Amounts (ICAS), and Amendment 80 Allocations of the Aleutian Islands Pacific Ocean Perch, and BSAI Flathead Sole, Rock Sole, and Yellowfin Sole TACs
(Amounts are in metric tons)
Sector | 2019 and 2020 allocations: Pacific ocean perch: Eastern Aleutian District | 2019 and 2020 allocations: Pacific ocean perch: Central Aleutian District | 2019 and 2020 allocations: Pacific ocean perch: Western Aleutian District | 2019 and 2020 allocations: Flathead sole: BSAI | 2019 and 2020 allocations: Rock sole: BSAI | 2019 and 2020 allocations: Yellowfin sole: BSAI
TAC | 9,715 | 7,549 | 9,117 | 16,500 | 49,100 | 156,000
CDQ | 1,040 | 808 | 976 | 1,766 | 5,254 | 16,692
ICA | 100 | 60 | 10 | 4,000 | 6,000 | 4,000
BSAI trawl limited access | 858 | 668 | 163 | 0 | 0 | 19,065
Amendment 80 | 7,718 | 6,013 | 7,969 | 7,735 | 37,846 | 116,243

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species, thus maintaining the TAC below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves shall be the ABC reserves minus the CDQ ABC reserves. Table 7 lists the proposed 2019 and 2020 ABC surplus and ABC reserves for BSAI flathead sole, rock sole, and yellowfin sole.

Table 7—Proposed 2019 and 2020 ABC Surplus, ABC Reserves, Community Development Quota (CDQ) ABC Reserves, and Amendment 80 ABC Reserves in the BSAI for Flathead Sole, Rock Sole, and Yellowfin Sole
(Amounts are in metric tons)
Sector | Flathead sole | Rock sole | Yellowfin sole
ABC | 65,227 | 132,000 | 267,500
TAC | 16,500 | 49,100 | 156,000
ABC surplus | 48,727 | 82,900 | 111,500
ABC reserve | 48,727 | 82,900 | 111,500
CDQ ABC reserve | 5,214 | 8,870 | 11,931
Amendment 80 ABC reserve | 43,513 | 74,030 | 99,570

Proposed PSC Limits for Halibut, Salmon, Crab, and Herring

Subsections 679.21(b), (e), (f), and (g) set forth the BSAI PSC limits. Pursuant to § 679.21(b)(1), the annual BSAI halibut PSC limits total 3,515 mt. Section 679.21(b)(1) allocates 315 mt of the halibut PSC limit as the PSQ reserve for use by the groundfish CDQ Program, 1,745 mt of the halibut PSC limit for the Amendment 80 sector, 745 mt of the halibut PSC limit for the BSAI trawl limited access sector, and 710 mt of the halibut PSC limit for the BSAI non-trawl sector.

Section 679.21(b)(1)(iii)(A) and (B) authorize apportionment of the BSAI non-trawl halibut PSC limit into PSC allowances among six fishery categories, and § 679.21(b)(1)(ii)(A) and (B), (e)(3)(i)(B), and (e)(3)(iv) require apportionment of the BSAI trawl limited access halibut and crab PSC limits into PSC allowances among seven fishery categories. Table 10 lists the proposed fishery PSC allowances for the BSAI trawl limited access fisheries, and Table 11 lists the proposed fishery PSC allowances for the non-trawl fisheries.

Pursuant to Section 3.6 of the FMP, the Council recommends, and NMFS proposes, that certain specified non-trawl fisheries be exempt from the halibut PSC limit. As in past years, after consultation with the Council, NMFS proposes to exempt pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ Program requires legal-size halibut to be retained by vessels using hook-and-line gear if a halibut IFQ permit holder or a hired master is aboard and is holding unused halibut IFQ for that vessel category and the IFQ regulatory area in which the vessel is operating (§ 679.7(f)(11)).

As of November 2018, total groundfish catch for the pot gear fishery in the BSAI was 46,571 mt, with an associated halibut bycatch mortality of 19 mt. The 2018 jig gear fishery harvested about 56 mt of groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed, and on whether NMFS determines it is a low Chinook salmon abundance year. NMFS will determine that it is a low Chinook salmon abundance year when abundance of Chinook salmon in western Alaska is less than or equal to 250,000 Chinook salmon. The State provides to NMFS an estimate of Chinook salmon abundance using the 3-System Index for western Alaska, based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved, or if the sector has exceeded its performance standard under § 679.21(f)(6), and it is not a low abundance year, NMFS will allocate a portion of the 47,591 Chinook salmon PSC limit to that sector as specified in § 679.21(f)(3)(iii)(C). If an AFA sector participates in an approved IPA and has not exceeded its performance standard under § 679.21(f)(6) in a low abundance year, then NMFS will allocate a portion of the 45,000 Chinook salmon PSC limit to that sector as specified in § 679.21(f)(3)(iii)(B). If no IPA is approved, or if the sector has exceeded its performance standard under § 679.21(f)(6) in a low abundance year, NMFS will allocate a portion of the 33,318 Chinook salmon PSC limit to that sector as specified in § 679.21(f)(3)(iii)(D).

As of October 1, 2018, NMFS has determined that 2018 was a low Chinook salmon abundance year, based on the State's estimate that Chinook salmon abundance in western Alaska is less than 250,000 Chinook salmon. Therefore, in 2019, the Chinook salmon PSC limit is 45,000 Chinook salmon, allocated to each sector as specified in § 679.21(f)(3)(iii)(B). The AFA sector Chinook salmon allocations are also seasonally apportioned with 70 percent of the allocation for the A season pollock fishery, and 30 percent of the allocation for the B season pollock fishery (§§ 679.21(f)(3)(i) and 679.23(e)(2)). In 2019, the Chinook salmon bycatch performance standard under § 679.21(f)(6) is 33,318 Chinook salmon, allocated to each sector as specified in § 679.21(f)(3)(iii)(D).

NMFS publishes the approved IPAs, allocations, and reports at https://alaskafisheries.noaa.gov/sustainablefisheries/bycatch/default.htm.

Section 679.21(g)(2)(i) specifies 700 fish as the 2019 and 2020 Chinook salmon PSC limit for the AI pollock fishery. Section 679.21(g)(2)(ii) allocates 7.5 percent, or 53 Chinook salmon, as the AI PSQ reserve for the CDQ Program, and allocates the remaining 647 Chinook salmon to the non-CDQ fisheries.

Section 679.21(f)(14)(i) specifies 42,000 fish as the 2019 and 2020 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ Program, and allocates the remaining 37,506 non-Chinook salmon in the CVOA to the non-CDQ fisheries.

PSC limits for crab and herring are specified annually based on abundance and spawning biomass. Due to the lack of new information as of October 2018 regarding herring PSC limits and apportionments, the Council recommended, and NMFS proposes, basing the herring 2019 and 2020 PSC limits and apportionments on the 2017 survey data. The Council will reconsider these amounts in December 2018. Section 679.21(e)(3)(i)(A)(1) allocates 10.7 percent of each trawl gear PSC limit specified for crab as a PSQ reserve for use by the groundfish CDQ Program.

Based on 2018 survey data, the red king crab mature female abundance is estimated at 13.1 million red king crabs, and the effective spawning biomass is estimated at 33,275 million lbs (15,093 mt). Based on the criteria set out at § 679.21(e)(1)(i), the proposed 2019 and 2020 PSC limit of red king crab in Zone 1 for trawl gear is 97,000 animals. This limit derives from the mature female abundance estimate of more than 8.4 million red king crab and the effective spawning biomass estimate of more than 14.5 million lbs (6,577 mt) but less than 55 million lbs (24,948 mt).

Section 679.21(e)(3)(ii)(B)(2) establishes criteria under which NMFS must specify an annual red king crab bycatch limit for the Red King Crab Savings Subarea (RKCSS). The regulations limit the bycatch in the RKCSS to up to 25 percent of the red king crab PSC allowance, based on the need to optimize the groundfish harvest relative to red king crab bycatch. NMFS proposes the Council's recommendation that the red king crab bycatch limit be equal to 25 percent of the red king crab PSC allowance within the RKCSS (Table 9).

Based on 2018 survey data, Tanner crab (Chionoecetes bairdi) abundance is estimated at 1,238 million animals. Pursuant to criteria set out at § 679.21(e)(1)(ii), the calculated 2019 and 2020 C. bairdi crab PSC limit for trawl gear is 980,000 animals in Zone 1, and 2,970,000 animals in Zone 2. The limit in Zone 1 is based on the abundance of C. bairdi estimated at 1,238 million animals, which is greater than 400 million animals. The limit in Zone 2 is based on the abundance of C. bairdi estimated at 1,238 million animals, which is greater than 400 million animals.

Pursuant to § 679.21(e)(1)(iii), the PSC limit for trawl gear for snow crab (C. opilio) is based on total abundance as indicated by the NMFS annual bottom trawl survey. The C. opilio crab PSC limit in the C. opilio bycatch limitation zone (COBLZ) is set at 0.1133 percent of the Bering Sea abundance index minus 150,000 crabs. Based on the 2018 survey estimate of 10.65 billion animals, the calculated C. opilio crab PSC limit is 11,916,450 animals, which is above the minimum PSC limit of 4.5 million and below the maximum PSC limit of 13 million animals.

Pursuant to § 679.21(e)(1)(v), the PSC limit of Pacific herring caught while conducting any trawl operation for BSAI groundfish is 1 percent of the annual eastern Bering Sea herring biomass. The best estimate of 2019 and 2020 herring biomass is 183,017 mt. This amount was developed by the Alaska Department of Fish and Game based on biomass for spawning aggregations. Therefore, the herring PSC limit proposed for 2019 and 2020 is 1,830 mt for all trawl gear as listed in Tables 8 and 9.

Section 679.21(e)(3)(i)(A) requires PSQ reserves to be subtracted from the total trawl PSC limits. The 2019 crab and halibut PSC limits assigned to the Amendment 80 and BSAI trawl limited access sectors are listed in Table 35 to 50 CFR part 679. The resulting proposed allocations of PSC limits to CDQ PSQ, the Amendment 80 sector, and the BSAI trawl limited access sector are listed in Table 8.

One Amendment 80 cooperative has formed for the 2019 fishing year. Because all Amendment 80 vessels are part of the cooperative, no PSC limit allocation to the Amendment 80 limited access sector is required.

The 2020 PSC limit allocations between Amendment 80 cooperatives and the Amendment 80 limited access sector will not be known until eligible participants apply for participation in the program by November 1, 2019. NMFS will post 2020 Amendment 80 cooperatives and Amendment 80 limited access allocations on the Alaska Region website at https://alaskafisheries.noaa.gov prior to the start of the fishing year on January 1, 2020, based on the harvest specifications effective on that date.

Subsections 679.21(b)(2) and (e)(5) authorize NMFS, after consulting with the Council, to establish seasonal apportionments of halibut and crab PSC amounts for the BSAI non-trawl, BSAI trawl limited access, and Amendment 80 limited access sectors to maximize the ability of the fleet to harvest the available groundfish TAC and to minimize bycatch. The factors considered are (1) seasonal distribution of prohibited species, (2) seasonal distribution of target groundfish species relative to prohibited species distribution, (3) prohibited species bycatch needs on a seasonal basis relevant to prohibited species biomass and expected catches of target groundfish species, (4) expected variations in bycatch rates throughout the year, (5) expected changes in directed groundfish fishing seasons, (6) expected start of fishing effort, and (7) economic effects of establishing seasonal prohibited species apportionments on segments of the target groundfish industry. Based on this criteria, the Council recommended, and NMFS proposes, the seasonal PSC apportionments in Tables 10 and 11 to maximize harvest among gear types, fisheries, and seasons, while minimizing bycatch of PSC.

Table 8—Proposed 2019 and 2020 Apportionment of Prohibited Species Catch Allowances to Non-Trawl Gear, the CDQ Program, Amendment 80, and the BSAI Trawl Limited Access Sectors
PSC species and area ¹ | Total PSC | Non-trawl PSC | CDQ PSQ reserve ² | Trawl PSC remaining after CDQ PSQ | Amendment 80 sector ³ | BSAI trawl limited access fishery
Halibut mortality (mt) BSAI | 3,515 | 710 | 315 | n/a | 1,745 | 745
Herring (mt) BSAI | 1,830 | n/a | n/a | n/a | n/a | n/a
Red king crab (animals) Zone 1 | 97,000 | n/a | 7,379 | 86,621 | 43,293 | 26,489
C. opilio (animals) COBLZ | 11,916,450 | n/a | 1,275,060 | 7,641,390 | 5,230,243 | 3,420,143
C. bairdi crab (animals) Zone 1 | 980,000 | n/a | 104,860 | 875,140 | 368,521 | 411,228
C. bairdi crab (animals) Zone 2 | 2,970,000 | n/a | 317,790 | 2,652,210 | 627,778 | 1,241,500
¹ Refer to § 679.2 for definitions of zones.
² The PSQ reserve for crab species is 10.7 percent of each crab PSC limit.
³ The Amendment 80 program reduced apportionment of the trawl PSC limits for crab below the total PSC limit. These reductions are not apportioned to other gear types or sectors.

Table 9—Proposed 2019 and 2020 Herring and Red King Crab Savings Subarea Prohibited Species Catch Allowances for All Trawl Sectors
Fishery categories | Herring (mt) BSAI | Red king crab (animals) Zone 1
Yellowfin sole | 80 | n/a
Rock sole/flathead sole/other flatfish ¹ | 39 | n/a
Greenland turbot/arrowtooth flounder/Kamchatka flounder/sablefish | 5 | n/a
Rockfish | 5 | n/a
Pacific cod | 9 | n/a
Midwater trawl pollock | 1,662 | n/a
Pollock/Atka mackerel/other species 2 3 | 30 | n/a
Red king crab savings subarea non-pelagic trawl gear ⁴ | n/a | 24,250
Total trawl PSC | 1,830 | 97,000
¹ “Other flatfish” for PSC monitoring includes all flatfish species, except for halibut (a prohibited species), arrowtooth flounder, flathead sole, Greenland turbot, Kamchatka flounder, rock sole, and yellowfin sole.
² Pollock other than midwater trawl pollock, Atka mackerel, and “other species” fishery category.
³ “Other species” for PSC monitoring includes sculpins, sharks, skates, and octopuses.
⁴ In October 2018, the Council recommended that the red king crab bycatch limit for non-pelagic trawl fisheries within the RKCSS be limited to 25 percent of the red king crab PSC allowance (see § 679.21(e)(3)(ii)(B)(2)).
Note: Species apportionments may not total precisely due to rounding.

Table 10—Proposed 2019 and 2020 Prohibited Species Bycatch Allowances for the BSAI Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 150 | 23,338 | 3,224,126 | 346,228 | 1,185,500
Rock sole/flathead sole/other flatfish ² |  |  |  |  | 0
Greenland turbot/arrowtooth flounder/Kamchatka flounder/sablefish |  |  |  |  | 0
Rockfish April 15-December 31 | 4 |  | 5,326 |  | 1,000
Pacific cod | 391 | 2,954 | 137,426 | 60,000 | 49,999
Pollock/Atka mackerel/other species ³ | 200 | 197 | 53,265 | 5,000 | 5,000
Total BSAI trawl limited access PSC | 745 | 26,489 | 3,420,143 | 411,228 | 1,241,500
¹ Refer to § 679.2 for definitions of areas.
² “Other flatfish” for PSC monitoring includes all flatfish species, except for halibut (a prohibited species), arrowtooth flounder, flathead sole, Greenland turbot, Kamchatka flounder, rock sole, and yellowfin sole.
³ “Other species” for PSC monitoring includes sculpins, sharks, skates, and octopuses.
Note: Species apportionments may not total precisely due to rounding.

Table 11—Proposed 2019 and 2020 Halibut Prohibited Species Bycatch Allowances for Non-Trawl Fisheries
Halibut mortality (mt) BSAI: Non-trawl fisheries | Halibut mortality (mt) BSAI: Seasons | Halibut mortality (mt) BSAI: Catcher/ processor | Halibut mortality (mt) BSAI: Catcher vessel | Halibut mortality (mt) BSAI: All non-trawl
Pacific cod | Annual Pacific cod | 648 | 13 | n/a
| January 1-June 10 | 388 | 9 | n/a
| June 10-August 15 | 162 | 2 | n/a
| August 15-December 31 | 98 | 2 | n/a
Non-Pacific cod non-trawl-Total | May 1-December 31 | n/a | n/a | 49
Groundfish pot and jig | n/a | n/a | n/a | Exempt
Sablefish hook-and-line | n/a | n/a | n/a | Exempt
Total for all non-trawl PSC | n/a | n/a | n/a | 710

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report.

In 2016, the DMR estimation methodology underwent revisions per the Council's directive. An interagency halibut working group (International Pacific Halibut Commission, Council, and NMFS staff) developed improved estimation methods that have undergone review by the Plan Team, SSC, and the Council. A summary of the revised methodology is included in the BSAI proposed 2017 and 2018 harvest specifications (81 FR 87863, December 6, 2016), and the comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (the period of data used for calculating the DMRs). Future DMRs may change based on additional years of observer sampling, which could provide more recent and accurate data and which could improve the accuracy of estimation and progress on methodology. The new methodology will continue to ensure that NMFS is using DMRs that more accurately reflect halibut mortality, which will inform the different sectors of their estimated halibut mortality and allow specific sectors to respond with methods that could reduce mortality and, eventually, the DMR for that sector.

In October 2018, the Council recommended adopting the halibut DMRs derived from the revised methodology for the proposed 2019 and 2020 DMRs. The proposed 2019 and 2020 DMRs use an updated 2-year reference period. Comparing the proposed DMRs to the final DMRs from the 2018 and 2019 harvest specifications, the proposed DMR for motherships and catcher/processors using non-pelagic trawl gear decreased to 78 percent from 84 percent, the proposed DMR for catcher vessels using non-pelagic trawl gear decreased to 59 percent from 60 percent, the proposed DMR for catcher vessels using hook-and-line gear decreased to percent from 17 percent, and the proposed DMR for pot gear increased to 19 percent from 9 percent. Table 12 lists the proposed 2019 and 2020 DMRs.

Table 12—Proposed 2019 and 2020 Pacific Halibut Discard Mortality Rates (DMR) for the BSAI
Gear | Sector | Halibut discard mortality rate (percent)
Pelagic trawl | All | 100
Non-pelagic trawl | Mothership and catcher/processor | 78
Non-pelagic trawl | Catcher vessel | 59
Hook-and-line | Catcher vessel | 4
Hook-and-line | Catcher/processor | 8
Pot | All | 19

Listed AFA Catcher/Processor Sideboard Limits

Pursuant to § 679.64(a), the Regional Administrator is responsible for restricting the ability of listed AFA catcher/processors to engage in directed fishing for groundfish species other than pollock to protect participants in other groundfish fisheries from adverse effects resulting from the AFA and from fishery cooperatives in the directed pollock fishery. These restrictions are set out as “sideboard” limits on catch. The basis for these proposed sideboard limits is described in detail in the final rules implementing the major provisions of the AFA (67 FR 79692, December 30, 2002) and Amendment 80 (72 FR 52668, September 14, 2007). Section 679.64(a)(1)(v) exempts AFA catcher/processors from a yellowfin sole sideboard limit because the 2019 and 2020 aggregate ITAC of yellowfin sole assigned to the Amendment 80 sector and BSAI trawl limited access sector is greater than 125,000 mt.

As discussed earlier in this preamble, NMFS published a proposed rule (83 FR 40733, August 16, 2018) that would, if implemented, establish regulations to prohibit directed fishing for AFA sideboard limits for specific groundfish species or species groups, rather than prohibiting directed fishing for AFA sideboard limits through the BSAI annual harvest specifications. If that rule becomes effective prior to the publication of the final 2019 and 2020 harvest specifications, NMFS will no longer publish most of the sideboards listed below in Table 13. Table 13 lists the proposed 2019 and 2020 catcher/processor groundfish sideboard limits.

All harvest of groundfish sideboard species by listed AFA catcher/processors, whether as targeted catch or incidental catch, will be deducted from the sideboard limits in Table 13. However, groundfish sideboard species that are delivered to listed AFA catcher/processors by catcher vessels will not be deducted from the 2019 and 2020 sideboard limits for the listed AFA catcher/processors.

Table 13—Proposed 2019 and 2020 BSAI Groundfish Sideboard Limits for Listed American Fisheries Act Catcher/Processors (C/Ps)
[Amounts are in metric tons]
Target species | Area | 1995-1997: Retained catch | 1995-1997: Total catch | 1995-1997: Ratio of retained catch to total catch | 2019 and 2020 ITAC available to all trawl C/Ps ¹ | 2019 and 2020 AFA C/P sideboard limit
Sablefish trawl | BS | 8 | 497 | 0.016 | 876 | 14
| AI |  | 145 |  | 595 |
Greenland turbot | BS | 121 | 17,305 | 0.007 | 4,356 | 30
| AI | 23 | 4,987 | 0.005 | 144 | 1
Arrowtooth flounder | BSAI | 76 | 33,987 | 0.002 | 11,900 | 24
Kamchatka flounder | BSAI | 76 | 33,987 | 0.002 | 4,250 | 9
Rock sole | BSAI | 6,317 | 169,362 | 0.037 | 43,846 | 1,622
Flathead sole | BSAI | 1,925 | 52,755 | 0.036 | 14,735 | 530
Alaska plaice | BSAI | 14 | 9,438 | 0.001 | 13,814 | 14
Other flatfish | BSAI | 3,058 | 52,298 | 0.058 | 3,400 | 197
| BS | 12 | 4,879 | 0.002 | 9,774 | 20
Pacific ocean perch | Eastern AI | 125 | 6,179 | 0.020 | 8,675 | 174
| Central AI | 3 | 5,698 | 0.001 | 6,741 | 7
| Western AI | 54 | 13,598 | 0.004 | 8,141 | 33
Northern rockfish | BSAI | 91 | 13,040 | 0.007 | 5,525 | 39
Rougheye rockfish | EBS/EAI | 50 | 2,811 | 0.018 | 64 | 1
| CAI/WAI | 50 | 2,811 | 0.018 | 128 | 2
Shortraker rockfish | BSAI | 50 | 2,811 | 0.018 | 128 | 2
Other rockfish | BS | 18 | 621 | 0.029 | 234 | 7
| AI | 22 | 806 | 0.027 | 485 | 13
Atka mackerel | Central AI | n/a | n/a | 0.115 | 22,231 | 2,557
| A season ² | n/a | n/a | 0.115 | 11,116 | 1,278
| B season ² | n/a | n/a | 0.115 | 11,116 | 1,278
| Western AI | n/a | n/a | 0.2 | 12,346 | 2,469
| A season ² | n/a | n/a | 0.2 | 6,173 | 1,235
| B season ² | n/a | n/a | 0.2 | 6,173 | 1,235
Skates | BSAI | 553 | 68,672 | 0.008 | 22,950 | 184
Sculpins | BSAI | 553 | 68,672 | 0.008 | 4,250 | 34
Sharks | BSAI | 553 | 68,672 | 0.008 | 153 | 1
Octopuses | BSAI | 553 | 68,672 | 0.008 | 170 | 1
¹ Aleutians Islands Pacific ocean perch, and BSAI Atka mackerel, flathead sole, rock sole, and yellowfin sole are multiplied by the remainder of the TAC after the subtraction of the CDQ reserve under § 679.20(b)(1)(ii)(C).
² The seasonal apportionment of Atka mackerel in the BSAI trawl limited access sector is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
Note: Section 679.64(a)(1)(v) exempts AFA catcher/processors from a yellowfin sole sideboard limit because the 2019 and 2020 aggregate ITAC of yellowfin sole assigned to the Amendment 80 sector and BSAI trawl limited access sector is greater than 125,000 mt.

Section 679.64(a)(2) and Tables 40 and 41 to 50 CFR part 679 establish a formula for calculating PSC sideboard limits for halibut and crab caught by listed AFA catcher/processors. The basis for these sideboard limits is described in detail in the final rules implementing the major provisions of the AFA (67 FR 79692, December 30, 2002) and Amendment 80 (72 FR 52668, September 14, 2007).

PSC species listed in Table 14 that are caught by listed AFA catcher/processors participating in any groundfish fishery other than pollock will accrue against the proposed 2019 and 2020 PSC sideboard limits for the listed AFA catcher/processors. Section 679.21(b)(4)(iii), (e)(3)(v), and (e)(7) authorize NMFS to close directed fishing for groundfish other than pollock for listed AFA catcher/processors once a proposed 2019 or 2020 PSC sideboard limit listed in Table 14 is reached.

Pursuant to §§ 679.21(b)(1)(ii)(C) and (e)(3)(ii)(C), halibut or crab PSC caught by listed AFA catcher/processors while fishing for pollock will accrue against the PSC allowances annually specified for the pollock/Atka mackerel/“other species” fishery categories, according to §§ 679.21(b)(1)(ii)(B) and (e)(3)(iv).

Table 14—Proposed 2019 and 2020 BSAI Prohibited Species Sideboard Limits for American Fisheries Act Listed Catcher/Processors
PSC species and area ¹ | Ratio of PSC to total PSC | Proposed 2019 and 2020 PSC available to trawl vessels after subtraction of PSQ ² | Proposed 2019 and 2020 C/P sideboard limit ²
BSAI Halibut mortality | n/a | n/a | 286
Red king crab Zone 1 | 0.007 | 86,621 | 606
C. opilio (COBLZ) | 0.153 | 8,144,641 | 1,246,130
C. bairdi Zone 1 | 0.140 | 741,190 | 103,767
C. bairdi Zone 2 | 0.050 | 2,250,360 | 112,518
¹ Refer to § 679.2 for definitions of areas.
² Halibut amounts are in metric tons of halibut mortality. Crab amounts are in numbers of animals.

AFA Catcher Vessel Sideboard Limits

Pursuant to § 679.64(b), the Regional Administrator is responsible for restricting the ability of AFA catcher vessels to engage in directed fishing for groundfish species other than pollock to protect participants in other groundfish fisheries from adverse effects resulting from the AFA and from fishery cooperatives in the directed pollock fishery. Section 679.64(b)(3) and (b)(4) establish formulas for setting AFA catcher vessel groundfish and PSC sideboard limits for the BSAI. The basis for these sideboard limits is described in detail in the final rules implementing the major provisions of the AFA (67 FR 79692, December 30, 2002) and Amendment 80 (72 FR 52668, September 14, 2007). Tables 15 and 16 list the proposed 2019 and 2020 AFA catcher vessel sideboard limits.

As discussed earlier in this preamble, NMFS published a proposed rule (83 FR 40733, August 16, 2018) that would, if implemented, establish regulations to prohibit directed fishing for AFA sideboard limits for specific groundfish species or species groups, rather than prohibiting directed fishing for AFA sideboard limits through the BSAI annual harvest specifications. If that rule becomes effective prior to the publication of the final 2019 and 2020 harvest specifications, NMFS will no longer publish most of the sideboards listed in Table 15. All catch of groundfish sideboard species made by non-exempt AFA catcher vessels, whether as targeted catch or as incidental catch, will be deducted from the 2019 and 2020 sideboard limits listed in Table 15.

Table 15—Proposed 2019 and 2020 BSAI Groundfish Sideboard Limits for American Fisheries Act Catcher Vessels (CVs)
[Amounts are in metric tons]
Species | Fishery by area/gear/season | Ratio of 1995-1997 AFA CV catch to 1995-1997 TAC | 2019 and 2020 initial TAC¹ | 2019 and 2020 AFA catcher vessel sideboard limits
Pacific cod | BSAI | n/a | n/a | n/a
| Jig gear |  | 2,140 |
| Hook-and-line CV >60 ft LOA | n/a | n/a | n/a
| Jan 1-Jun 10 | 0.0006 | 155 | 0
| Jun 10-Dec 31 | 0.0006 | 149 | 0
| Pot gear CV >60 ft LOA | n/a | n/a | n/a
| Jan 1-Jun 10 | 0.0006 | 6,521 | 4
| Sept 1-Dec 31 | 0.0006 | 6,265 | 4
| CV <60 ft LOA using hook-and-line or pot gear | 0.0006 | 3,044 | 2
| Trawl gear CV | n/a | n/a | n/a
| Jan 20-Apr 1 | 0.8609 | 25,001 | 21,523
| Apr 1-Jun 10 | 0.8609 | 3,716 | 3,199
| Jun 10-Nov 1 | 0.8609 | 5,068 | 4,363
Sablefish | BS trawl gear | 0.0906 | 876 | 79
| AI trawl gear | 0.0645 | 595 | 38
Greenland turbot | BS | 0.0645 | 4,356 | 281
| AI | 0.0205 | 144 | 3
Arrowtooth flounder | BSAI | 0.0690 | 11,900 | 821
Kamchatka flounder | BSAI | 0.0690 | 4,250 | 293
Rock sole | BSAI | 0.0341 | 43,846 | 1,495
Flathead sole | BS trawl gear | 0.0505 | 14,735 | 744
Alaska plaice | BSAI | 0.0441 | 13,814 | 609
Other flatfish | BSAI | 0.0441 | 3,400 | 150
Pacific ocean perch | BS | 0.1000 | 9,774 | 977
| Eastern AI | 0.0077 | 8,675 | 67
| Central AI | 0.0025 | 6,741 | 17
| Western AI |  | 8,141 |
Northern rockfish | BSAI | 0.0084 | 5,525 | 46
Rougheye rockfish | EBS/EAI | 0.0037 | 64 | 0
| CAI/WAI | 0.0037 | 128 | 0
Shortraker rockfish | BSAI | 0.0037 | 128 | 0
Other rockfish | BS | 0.0048 | 234 | 1
| AI | 0.0095 | 485 | 5
Atka mackerel | Eastern AI/BS | n/a | 30,166 | n/a
| Jan 1-Jun 10 | 0.0032 | 15,083 | 48
| Jun 10-Nov 1 | 0.0032 | 15,083 | 48
| Central AI | n/a | 22,231 | n/a
| Jan 1-Jun 10 | 0.0001 | 11,116 | 1
| Jun 10-Nov 1 | 0.0001 | 11,116 | 1
| Western AI | n/a | 12,346 | n/a
| Jan 1-Jun 10 |  | 6,173 |
| Jun 10-Nov 1 |  | 6,173 |
Skates | BSAI | 0.0541 | 22,950 | 1,242
Sculpins | BSAI | 0.0541 | 4,250 | 230
Sharks | BSAI | 0.0541 | 153 | 8
Octopuses | BSAI | 0.0541 | 170 | 9
¹ Aleutians Islands Pacific ocean perch, and BSAI Atka mackerel, flathead sole, Pacific cod, rock sole, and yellowfin sole are multiplied by the remainder of the TAC of that species after the subtraction of the CDQ reserve under § 679.20(b)(1)(ii)(C).
Note: Section 679.64(b)(6) exempts AFA catcher vessels from a yellowfin sole sideboard limit because the 2019 and 2020 aggregate ITAC of yellowfin sole assigned to the Amendment 80 sector and BSAI trawl limited access sector is greater than 125,000 mt.

Halibut and crab PSC limits listed in Table 16 that are caught by AFA catcher vessels participating in any groundfish fishery other than pollock will accrue against the 2019 and 2020 PSC sideboard limits for the AFA catcher vessels. Section 679.21(b)(4)(iii), (e)(7), and (e)(3)(v) authorize NMFS to close directed fishing for groundfish other than pollock for AFA catcher vessels once a proposed 2019 and 2020 PSC sideboard limit listed in Table 16 is reached. Pursuant to §§ 679.21(b)(1)(ii)(C) and (e)(3)(ii)(C), halibut or crab PSC caught by AFA catcher vessels while fishing for pollock in the BS will accrue against the PSC allowances annually specified for the pollock/Atka mackerel/“other species” fishery categories under §§ 679.21(b)(1)(ii)(B) and (e)(3)(iv).

Table 16—Proposed 2019 and 2020 American Fisheries Act Catcher Vessel Prohibited Species Catch Sideboard Limits for the BSAI ¹
PSC species and area ¹ | Target fishery category ² | AFA catcher vessel PSC sideboard limit ratio | Proposed 2019 and 2020 PSC limit after subtraction of PSQ reserves ³ | Proposed 2019 and 2020 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth flounder/Kamchatka flounder/sablefish | n/a | n/a
| Rockfish | n/a | n/a | 2
| Pollock/Atka mackerel/other species ⁵ | n/a | n/a | 5
Red king crab Zone 1 | n/a | 0.2990 | 86,621 | 25,900
C. opilio COBLZ | n/a | 0.1680 | 8,144,641 | 1,368,300
C. bairdi Zone 1 | n/a | 0.3300 | 741,190 | 244,593
C. bairdi Zone 2 | n/a | 0.1860 | 2,250,360 | 418,567
¹ Refer to § 679.2 for definitions of areas.
² Target fishery categories are defined at § 679.21(b)(1)(ii)(B) and (e)(3)(iv).
³ Halibut amounts are in metric tons of halibut mortality. Crab amounts are in numbers of animals.
⁴ “Other flatfish” for PSC monitoring includes all flatfish species, except for halibut (a prohibited species), arrowtooth flounder, Kamchatka flounder, flathead sole, Greenland turbot, rock sole, and yellowfin sole.
⁵ “Other species” for PSC monitoring includes skates, sculpins, sharks, and octopuses.

Classification

NMFS has determined that the proposed harvest specifications are consistent with the FMP and preliminarily determined that the proposed harvest specifications are consistent with the Magnuson-Stevens Act and other applicable laws, subject to further review after public comment.

This action is authorized under 50 CFR 679.20 and is exempt from review under Executive Order 12866.

NMFS prepared an EIS for this action and made it available to the public on January 12, 2007 (72 FR 1512). On February 13, 2007, NMFS issued the Record of Decision (ROD) for the Final EIS. A SIR that assesses the need to prepare a Supplemental EIS is being prepared for the final harvest specifications. Copies of the Final EIS, ROD, and annual SIRs for this action are available from NMFS (see ADDRESSES). The Final EIS analyzes the environmental, social, and economic consequences of the proposed groundfish harvest specifications and alternative harvest strategies on resources in the action area. Based on the analysis in the Final EIS, NMFS concluded that the preferred Alternative (Alternative 2) provides the best balance among relevant environmental, social, and economic considerations and allows for continued management of the groundfish fisheries based on the most recent, best scientific information.

NMFS prepared an IRFA, as required by section 603 of the Regulatory Flexibility Act (RFA), analyzing the methodology for establishing the relevant TACs. The IRFA evaluates the economic impacts on small entities of alternative harvest strategies for the groundfish fisheries in the exclusive economic zone off Alaska. As described in the methodology, TACs are set to a level that falls within the range of ABCs recommended by the SSC; the sum of the TACs must achieve the OY specified in the FMP. While the specific numbers that the methodology produces may vary from year to year, the methodology itself remains constant.

A description of the proposed action, why it is being considered, and the legal basis for this proposed action are contained in the preamble above. A copy of the IRFA is available from NMFS (see ADDRESSES). A summary of the IRFA follows.

The action under consideration is a harvest strategy to govern the catch of groundfish in the BSAI. The preferred alternative is the existing harvest strategy in which TACs fall within the range of ABCs recommended by the SSC, but, as discussed below, NMFS considered other alternatives. This action is taken in accordance with the FMP prepared by the Council pursuant to the Magnuson-Stevens Act.

The entities directly regulated by this action are those that harvest groundfish in the exclusive economic zone of the BSAI and in parallel fisheries within State waters. These include entities operating catcher vessels and catcher/processors within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide.

The IRFA shows that, in 2017, the estimated number of directly regulated small entities include approximately 170 catcher vessels, four catcher/processors, and six CDQ groups. Some of these vessels are members of AFA inshore pollock cooperatives, Gulf of Alaska rockfish cooperatives, or BSAI Crab Rationalization Program cooperatives, and, since under the RFA the aggregate gross receipts of all participating members of the cooperative must meet the “under $11 million” threshold, the cooperatives are considered to be large entities within the meaning of the RFA. Thus, the estimate of 170 catcher vessels may be an overstatement of the number of small entities. Average gross revenues were $570,000 for small hook-and-line vessels, $1.37 million for small pot vessels, and $3.15 million for small trawl vessels. The average gross revenue for catcher/processors are not reported, due to confidentiality considerations.

The preferred alternative (Alternative 2) was compared to four other alternatives. Alternative 1 would have set TACs to generate fishing rates equal to the maximum permissible ABC (if the full TAC were harvested), unless the sum of TACs exceeded the BSAI OY, in which case TACs would have been limited to the OY. Alternative 3 would have set TACs to produce fishing rates equal to the most recent 5-year average fishing rates. Alternative 4 would have set TACs equal to the lower limit of the BSAI OY range. Alternative 5, the “no action” alternative, would have set TACs equal to zero.

The TACs associated with Alternative 2, the preferred harvest strategy, are those recommended by the Council in October 2018. OFLs and ABCs for the species were based on recommendations prepared by the Council's BSAI Groundfish Plan Team in September 2018, and reviewed and modified by the Council's SSC in October 2018. The Council based its TAC recommendations on those of its AP, which were consistent with the SSC's OFL and ABC recommendations.

Alternative 1 selects harvest rates that would allow fishermen to harvest stocks at the level of ABCs, unless total harvests were constrained by the upper bound of the BSAI OY of two million mt. As shown in Table 1 of the preamble, the sum of ABCs in 2019 and 2020 would be 3,573,772 mt, which is above the upper bound of the OY range. Under Alternative 1, the sum of TACs is equal to the sum of ABCs. In this instance, Alternative 1 is consistent with the preferred alternative (Alternative 2), meets the objectives of that action, and has small entity impacts that are equivalent to small entity impacts of the preferred alternative. However, NMFS cannot set TACs equal to the sum of ABCs in the BSAI due to the constraining OY limit of two million mt, which Alternative 1 would exceed.

Alternative 3 selects harvest rates based on the most recent 5 years of harvest rates (for species in Tiers 1 through 3) or based on the most recent 5 years of harvests (for species in Tiers 4 through 6). This alternative is inconsistent with the objectives of this action (as reflected in Alternative 2, the Council's preferred harvest strategy) because it does not take account of the most recent biological information for this fishery, as required by the Magnuson-Stevens Act. NMFS annually conducts at-sea stock surveys for different species, as well as statistical modeling, to estimate stock sizes and permissible harvest levels. Actual harvest rates or harvest amounts are a component of these estimates, but in and of themselves may not accurately portray stock sizes and conditions. Harvest rates are listed for each species category for each year in the SAFE report (see ADDRESSES).

Alternative 4 would lead to significantly lower harvests of all groundfish species and reduce TACs from the upper end of the OY range in the BSAI, to its lower end of 1.4 million mt. Overall, this would reduce 2019 TACs by about 30 percent, which would lead to significant reductions in harvests of species by small entities. While reductions of this size would alter the supply, and, therefore, would be associated with offsetting price increases, the size of these associated price increases is uncertain. While production declines in the BSAI would undoubtedly be associated with price increases in the BSAI, these increases still would be constrained by production of substitutes, and are unlikely to completely offset revenue declines resulting from reductions in harvests of these species by small entities. Thus, this alternative would have a detrimental impact on small entities.

Alternative 5, which sets all harvests equal to zero, would have a significant adverse impact on small entities and would be contrary to the requirement for achieving OY on a continuing basis, as mandated by the Magnuson-Stevens Act.

The proposed harvest specifications (Alternative 2) extend the current 2019 OFLs, ABCs, and TACs to 2019 and 2020, with the exceptions for removal of the squid OFL, ABC, and TAC in the BSAI and the related increase in BS pollock TAC amounts, and for the decreases of the Pacific cod BS and AI TACs to account for the State's GHLs. As noted in the IRFA, the Council may modify its recommendations for final OFLs, ABCs, and TACs in December 2018, when it reviews the November 2018 SAFE report from its groundfish Plan Team, and the reports of the SSC and AP, at the 2018 December Council meeting. NMFS does not expect adverse impacts on small entities, because most of the TACs in the proposed 2019 and 2020 harvest specifications are unchanged from the 2019 harvest specification TACs, with the exception of changes for TACs for squid, BS pollock, and Pacific cod, and because the sum of all TACs remains within the upper limit of OY for the BSAI of 2.0 million mt. Also, NMFS does not expect any changes that might be made by the Council in December 2018 to be large enough to have an impact on small entities.

This action does not modify recordkeeping or reporting requirements, or duplicate, overlap, or conflict with any Federal rules.

Adverse impacts on marine mammals or endangered species resulting from fishing activities conducted under these harvest specifications are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 29, 2018.
Samuel D. Rauch, III,
Deputy Assistant Administrator for Regulatory Programs, National Marine Fisheries Service.

[FR Doc. 2018-26389 Filed 12-4-18; 8:45 am]

BILLING CODE 3510-22-P